DEPARTMENT OF DEFENSE

Defense Acquisition Regulations System

48 CFR Parts 208, 236, and 252

Defense Federal Acquisition Regulation Supplement; Technical Amendments

AGENCY: Defense Acquisition Regulations System, Department of Defense (DoD).

ACTION: Final rule.

SUMMARY: DoD is making technical amendments to the Defense Federal Acquisition Regulation Supplement (DFARS) to update a subpart heading, a cross-reference, and a form title.

DATES: Effective Date: August 12, 2008.

FOR FURTHER INFORMATION CONTACT: Ms. Michele Peterson, Defense Acquisition Regulations System, OUSD (AT&L) DPAP (DARS), IMD 3D139, 3062 Defense Pentagon, Washington, DC 20301-3062. Telephone 703-602-0311; facsimile 703-602-7887.

SUPPLEMENTARY INFORMATION: This final rule amends DFARS text as follows:

○ Subpart 208.7. Updates the subpart heading for consistency with the heading of the corresponding Federal Acquisition Regulation subpart.

○ 236.570. Updates a cross-reference.

○ 252.235-7003. Updates Alternate I to reflect the current title of DD Form 1494.

List of Subjects in 48 CFR Parts 208, 236, and 252

Government procurement.

Michele P. Peterson,
Editor, Defense Acquisition Regulations System.

Therefore, 48 CFR parts 208, 236, and 252 are amended as follows:

1. The authority citation for 48 CFR parts 208, 236, and 252 continues to read as follows:

Authority: 41 U.S.C. 421 and 48 CFR Chapter 1.

PART 208—REQUIRED SOURCES OF SUPPLIES AND SERVICES

2. The heading of Subpart 208.7 is revised to read as follows:

Subpart 208.7—Acquisition From Nonprofit Agencies Employing People Who Are Blind or Severely Disabled

PART 236—CONSTRUCTION AND ARCHITECT-ENGINEER CONTRACTS

236.570 [Amended]

3. Section 236.570 is amended in paragraph (b)(5) by removing “236.213-70” and adding in its place “236.213”.

PART 252—SOLICITATION PROVISIONS AND CONTRACT CLAUSES

252.235-7003 [Amended]

4. Section 252.235-7003 is amended in Alternate I as follows:

a. By revising the Alternate I date to read “(AUG 2008)”; and

b. In the introductory text and in paragraph (c) by removing “Application for Frequency Authorization” and adding in its place “Application for Equipment Frequency Allocation”.

[FR Doc. E8-18492 Filed 8-11-08; 8:45 am]

BILLING CODE 5001-08-P